INTERNATIONAL TRADE COMMISSION

[Investigation No. 337-TA-1161]

Certain Food Processing Equipment and Packaging Materials Thereof; Issuance of a General Exclusion Order; Termination of the Investigation

AGENCY: U.S. International Trade Commission.

ACTION: Notice.

SUMMARY: Notice is hereby given that the U.S. International Trade Commission has issued a general exclusion order (“GEO”) prohibiting the unlicensed entry of certain food processing equipment and packaging materials thereof that are falsely advertised through the unlicensed use of one or more certification marks of U.S. Trademark Registration No. 1,976,117; U.S. Trademark Registration No. 5,189,919; or U.S. Trademark Registration No. 5,554,628 (collectively, “the Certification Marks”). The investigation is terminated in its entirety.

FOR FURTHER INFORMATION CONTACT: Amanda P. Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 18, 2019, based on a complaint filed by 3-A Sanitary Standards, Inc. of McLean, Virginia (“3-A SSI”). 84 FR 28335 (June 18, 2019). The complaint, as supplemented, alleges violations of section 337 of the Tariff Act of 1930, as amended, 19 U.S.C. 1337, based upon the importation or sale of certain food processing equipment and packaging materials thereof by reason of false advertising and unfair competition, the threat or effect of which is to destroy or substantially injure an industry in the United States. The notice of investigation named as respondents Wenzhou QiMing Stainless Co., Ltd. of Wenzhou, China (“Wenzhou QiMing”); High MPa Valve Manufacturing Co., Ltd. of Wenzhou, China (“High MPa Valve”); Wenzhou Sinco Steel Co, Ltd. of Wenzhou, China (“Wenzhou Sinco”); Wenzhou Kasin Valve Pipe Fitting Co., Ltd. of Wenzhou, China (“Wenzhou Kasin”); and Wenzhou Fuchuang Machinery (“Wenzhou Fuchuang”) (collectively, “defaulting respondents”). Id. The Office of Unfair Import Investigations (“OUII”) was also named as a party to the investigation. Id.

On October 15, 2019, the Commission found respondents Wenzhou QiMing, High MPa Valve, Wenzhou Sinco, and Wenzhou Kasin in default. Order No. 8 (Sept. 19, 2019), unreviewed, Notice (Oct. 15, 2019). On December 19, 2019, the Commission found Wenzhou Fuchuang in default. Order No. 13 (Nov. 19, 2019), unreviewed, Notice (Dec. 18, 2019).

On November 7, 2019, 3-A SSI moved for summary determination of violation of section 337 by the defaulting respondents. On November 20, 2019, and December 3, 2019, 3-A SSI supplemented its motion and exhibits. On December 13, 2019, OUII filed a response supporting 3-A SSI's motion.

On February 18, 2020, the presiding administrative law judge issued Order No. 14, an initial determination (“ID”) granting 3-A SSI's motion for summary determination of a violation of section 337 by the defaulting respondents. No party petitioned for review of the ID.

On April 3, 2020, the Commission determined not to review the ID. 85 FR 19955-56 (Apr. 9, 2020). The Commission's determination resulted in finding a violation of section 337 as to the defaulting respondents. The Commission also requested written submissions on remedy, the public interest, and bonding. See id. On April 14, 2020, 3-A SSI and OUII submitted their briefs on remedy, the public interest, and bonding. OUII further filed a response brief on April 21, 2020.

The Commission finds that the statutory requirements for relief under section 337(g)(2), 19 U.S.C. 1337(g)(2), are met. In addition, the Commission finds that the public interest factors enumerated in section 337(g)(1), 19 U.S.C. 1337(g)(1), do not preclude issuance of the statutory relief.

The Commission has determined that the appropriate remedy in this investigation is a GEO prohibiting the unlicensed entry of certain food processing equipment and packaging materials thereof that are falsely advertised through the unlicensed use of one or more of the Certification Marks. The Commission has also determined that the bond during the period of Presidential review pursuant to 19 U.S.C. 1337(j) shall be in the amount of 100 percent of the entered value of the imported articles that are subject to the GEO. The Commission's order was delivered to the President and to the United States Trade Representative on the day of its issuance. The investigation is hereby terminated in its entirety.

The Commission vote for this determination took place on June 15, 2020.

The authority for the Commission's determination is contained in section 337 of the Tariff Act of 1930, as amended (19 U.S.C. 1337), and in Part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: June 15, 2020.
Lisa Barton,
Secretary to the Commission.

[FR Doc. 2020-13164 Filed 6-17-20; 8:45 am]

BILLING CODE 7020-02-P